ENVIRONMENTAL PROTECTION AGENCY

40 CFR Part 52

[KY130-200117(a); FRL-7036-8]

Approval and Promulgation of Implementation Plans Commonwealth of Kentucky: Approval of Revisions to the 1-Hour Ozone Maintenance State Implementation Plan for Marshall and a Portion of Livingston Counties

AGENCY: Environmental Protection Agency (EPA).

ACTION: Direct final rule.

SUMMARY: EPA is approving revisions to the 1-hour ozone maintenance state implementation plan (SIP) for Marshall and a portion of Livingston Counties, Kentucky (i.e., the Paducah area), submitted on June 14, 2001, by the Commonwealth of Kentucky through the Natural Resources and Environmental Protection Cabinet to correct/revise the original motor vehicle emissions budgets (MVEBs) approved by EPA. Once EPA's approval is effective, the revised MVEBs must be used for transportation conformity purposes in the Paducah area.

DATES: This direct final rule is effective October 19, 2001 without further notice, unless EPA receives adverse comment by September 19, 2001. If adverse comment is received, EPA will publish a timely withdrawal of the direct final rule in the Federal Register and inform the public that the rule will not take effect.

ADDRESSES: All comments should be addressed to: Mr. Richard A. Schutt, Chief, Regulatory Planning Section, EPA, Region 4, 61 Forsyth Street, SW, Atlanta, Georgia 30303.

Copies of the State submittal(s) are available at the following addresses for inspection during normal business hours:

Environmental Protection Agency, Region 4, Air Planning Branch, 61 Forsyth Street, SW, Atlanta, Georgia 30303-8960. Contact: Mr. Richard A. Schutt, (404) 562-9033, schutt.dick@epa.gov.

Commonwealth of Kentucky Natural Resources and Environmental Protection Cabinet, Department for Environmental Protection, Division for Air Quality, 803 Schenkel Lane, Frankfort, Kentucky, 40601. (502) 573-3382.

FOR FURTHER INFORMATION CONTACT: Mr. Richard A. Schutt, (404) 562-9033, schutt.dick@epa.gov.

SUPPLEMENTARY INFORMATION:

I. Background

EPA designated Marshall and a portion of Livingston Counties, Kentucky, (i.e., the Paducah area) nonattainment under the 1-hour ozone National Ambient Air Quality Standard (NAAQS) effective January 6, 1992 (56 FR 56694). Furthermore, EPA classified the area as “marginal” under Title I Part D Subpart 2 of the Clean Air Act Amendments of 1990. EPA approved the Paducah area's redesignation request and maintenance SIP effective April 10, 1995 (60 FR 7124). The maintenance SIP contained emissions inventories and projections for volatile organic compounds (VOC) and nitrogen oxides (NOX) from all sources for the 1990 base year through 2004, including every three years in the interim. The on-road mobile source VOC and NOX projections established MVEBs for transportation conformity purposes for the Paducah area. The original MVEBs are shown in Table 1.

Table 1.—Original Paducah Area MVEBs
[tons/day]
Pollutant | County | 1990 | 1993 | 1996 | 1999 | 2002 | 2004
VOC | Livingston (Portion) | 0.15 | 0.14 | 0.15 | 0.13 | 0.13 | 0.13
| Marshall | 3.01 | 2.82 | 2.90 | 2.59 | 2.54 | 2.54
VOC MVEB |  | 3.16 | 2.96 | 3.05 | 2.72 | 2.67 | 2.67
NOX | Livingston (Portion) | 0.14 | 0.14 | 0.14 | 0.13 | 0.13 | 0.13
| Marshall | 2.93 | 2.84 | 2.89 | 2.71 | 2.64 | 2.63
NOX MVEB |  | 3.07 | 2.98 | 3.03 | 2.84 | 2.77 | 2.76

On June 14, 2001, the Commonwealth of Kentucky submitted a revision of the Paducah area maintenance SIP to correct the original MVEBs. Specifically, the MVEBs were revised to reflect corrected assumptions about daily vehicle-miles traveled (DVMT) for the years 1990-2004 in Marshall and Livingston Counties supplied by the Kentucky Transportation Cabinet (KYTC). The revised MVEBs are shown in Table 2.

Table 2.—Revised Paducah Area MVEBs
[tons/day]
Pollutant | County | 1990 | 1993 | 1996 | 1999 | 2002 | 2004
VOC | Livingston (Portion) | 0.20 | 0.13 | 0.12 | 0.12 | 0.12 | 0.12
| Marshall | 5.03 | 3.32 | 3.00 | 2.98 | 3.01 | 3.05
VOC MVEB |  | 5.23 | 3.45 | 3.12 | 3.10 | 3.13 | 3.17
NOX | Livingston (Portion) | 0.14 | 0.14 | 0.13 | 0.14 | 0.14 | 0.14
| Marshall | 3.68 | 3.66 | 3.40 | 3.43 | 3.54 | 3.57
NOX MVEB |  | 3.82 | 3.8 | 3.53 | 3.57 | 3.68 | 3.71

The SIP revises only the on-road mobile source emissions estimates and forecasts. The emissions inventories and forecasts for all other sources were not revised. The revised total VOC and NOX emissions from all sources are shown in Tables 3 and 4, respectively.

Table 3.—Revised Paducah Area Total VOC Emissions
[tons/day]
| 1990 | 1993 | 1996 | 1999 | 2002 | 2004
Point | 96.47 | 94.03 | 83.80 | 84.47 | 85.13 | 85.58
Area | 1.85 | 1.87 | 1.88 | 1.90 | 1.91 | 1.93
Mobile | 5.23 | 3.45 | 3.12 | 3.10 | 3.13 | 3.17
Non-Road | 1.29 | 1.30 | 1.31 | 1.32 | 1.34 | 1.34
Total | 104.84 | 100.66 | 90.12 | 90.79 | 91.51 | 92.02

Table 4.—Revised Paducah Area Total NOX Emissions
[tons/day]
| 1990 | 1993 | 1996 | 1999 | 2002 | 2004
Point | 5.88 | 5.93 | 5.97 | 6.02 | 6.07 | 6.10
Area | 0.11 | 0.11 | 0.11 | 0.11 | 0.11 | 0.11
Mobile | 3.82 | 3.80 | 3.53 | 3.57 | 3.68 | 3.71
Non-Road | 1.34 | 1.35 | 1.37 | 1.38 | 1.39 | 1.40
Total | 11.15 | 11.19 | 10.98 | 11.08 | 11.25 | 11.32

The Commonwealth of Kentucky forecasted slight increases in total NOX of 0.10 tons per day in 2002 and 0.17 tons per day in 2004 compared to the 1990 level. The original maintenance plan for the Paducah area was based on maintaining total emissions at or below the 1990 levels, a year during which the area met the 1-hour ozone NAAQS. However, EPA believes that these slight emissions increases will not adversely impact maintenance of the 1-hour ozone NAAQS in the Paducah area. In addition, the forecasted excess emissions will likely be offset by reductions from federal measures that were enacted and implemented since approval of the original maintenance plan, but for which the Commonwealth of Kentucky did not take credit in the SIP revision. Specifically, NOX emissions reductions from the Tier 2/Gasoline Sulfur Rule (65 FR 6697), federal locomotive standards (63 FR 18977), nonroad diesel engine standards (63 FR 56967), and new gasoline spark-ignition marine engine standards (61 FR 52087) should be sufficient to offset the forecasted emissions increases in the SIP.

Per section 175A.(b) of the Clean Air Act, the Commonwealth of Kentucky must submit a revision of the Paducah area maintenance SIP to EPA by April 10, 2003. The revision will update the SIP to maintain the 1-hour ozone NAAQS in the Paducah area for 10 years after the expiration of the current plan. EPA expects the Commonwealth of Kentucky to update all emissions source categories in the revision to the maintenance SIP and to incorporate any applicable Clean Air Act and federal measures that have been enacted since the original maintenance plan was developed.

Once EPA's approval of this SIP revision is effective, the revised MVEBs in Table 2 must be used for transportation conformity purposes in the Paducah area.

II. Analysis of State's Submittal

The procedure for estimating on-road mobile source emissions consists of multiplying together: (1) The level of travel activity (e.g., DVMT), and (2) the emissions factors (e.g., grams of pollutant emitted per mile driven). KYTC collects and forecasts DVMT data for the Paducah area, and the Kentucky Division for Air Quality (DAQ) calculates the corresponding mobile source emissions factors using EPA's MOBILE model.

In developing the original maintenance SIP, KYTC utilized statewide average Highway Performance Monitoring System (HPMS) data to estimate and forecast DVMT in the Paducah area. Since that time, KYTC's supporting data and analytical procedures for DVMT estimation have been upgraded. In the revised maintenance SIP, KYTC's DVMT estimates are based on county-specific travel activity, and the forecasts are based, in part, on county-specific population forecasts. KYTC believes that the revised DVMT estimates and forecasts are more reliable than those used in the development of the original maintenance SIP. The SIP revision documents the new procedures, and EPA finds the procedures to be reasonable for estimating and forecasting DVMT in the Paducah area. The revised DVMT totals for the Paducah area are roughly 20 to 25 percent higher than the original totals. The original and revised DVMT estimates are shown in Tables 5 and 6, respectively.

Table 5.—Original Paducah Area DVMT
County | 1990 | 1993 | 1996 | 1999 | 2002 | 2004
Livingston | 306,000 | 327,469 | 350,000 | 373,296 | 398,276 | 415,097
Marshall | 847,000 | 906,084 | 968,000 | 1,033,178 | 1,102,950 | 1,149,926
Total DVMT | 1,153,000 | 1,233,553 | 1,318,000 | 1,406,474 | 1,501,226 | 1,565,023

Table 6.—Revised Paducah Area DVMT
County | 1990 | 1993 | 1996 | 1999 | 2002 | 2004
Livingston | 293,000 | 327,000 | 350,000 | 386,000 | 422,000 | 446,000
Marshall | 1,070,000 | 1,176,000 | 1,198,000 | 1,323,000 | 1,461,000 | 1,550,000
Total DVMT | 1,363,000 | 1,503,000 | 1,548,000 | 1,709,000 | 1,883,000 | 1,996,000

DAQ used the same MOBILE input assumptions in the development of the revised maintenance SIP (e.g., ambient temperature, registration distributions, fuel volatility, average vehicle speeds) as were used in the original maintenance plan. In addition, for the revised SIP, DAQ included the effects of the 2004 NOX emissions standard for heavy-duty diesel engines (MOBILE5 Information Sheet #5, http://www.epa.gov/oms/models/mobile5/m5info5.pdf) in 2004 and the National Low Emission Vehicle standard for light-duty gasoline fueled vehicles in years 2002 and 2004 (MOBILE5 Information Sheet #6, http://www.epa.gov/oms/models/mobile5/m5info6.pdf), both of which were approved by EPA after the original maintenance plan was developed.

III. Final Action

EPA is approving the aforementioned changes to the SIP because the revision meets all applicable Clean Air Act statutory and regulatory requirements.

EPA is publishing this rule without prior proposal because the Agency views this as a noncontroversial submittal and anticipates no adverse comments. However, in the proposed rules section of this Federal Register publication, EPA is publishing a separate document that will serve as the proposal to approve the SIP revision should adverse comments be filed. This rule will be effective October 19, 2001 without further notice unless the Agency receives adverse comments by September 19, 2001.

If EPA receives such comments, then EPA will publish a document withdrawing the final rule and informing the public that the rule will not take effect. All public comments received will then be addressed in a subsequent final rule based on the proposed rule. EPA will not institute a second comment period. Parties interested in commenting should do so at this time. If no such comments are received, the public is advised that this rule will be effective on October 19, 2001 and no further action will be taken on the proposed rule.

IV. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the United States Senate, the United States House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 19, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Intergovernmental relations, Nitrogen dioxide, Ozone, Reporting and recordkeeping requirements.

Dated: August 3, 2001.
Russell Wright,
Acting Regional Administrator, Region 4.

Part 52 of chapter I, title 40, Code of Federal Regulations, is amended as follows:

PART 52—[AMENDED]

1. The authority citation for part 52 continues to read as follows:

Authority: 42. U.S.C. 7401 et seq.

Subpart S—Kentucky

2. In § 52.920 paragraph (e) the table is amended by adding a new entry “21.” to read as follows:

§ 52.920 Identification of plan.

* * * * *

(e) * * *

Appendix | Title/subject | State effective date | EPA approval date | Federal Register Notice
* * * * * * *
21. | Maintenance Plan Revision for Marshall and a Portion of Livingston CO | 06/14/01 | 08/20/01 | 08/20/01

[FR Doc. 01-20784 Filed 8-17-01; 8:45 am]

BILLING CODE 6560-50-P